DEPARTMENT OF HEALTH AND HUMAN SERVICES

National Institutes of Health

National Institute of Nursing Research; Notice of Closed Meeting

Pursuant to section 1009 of the Federal Advisory Committee Act, as amended, notice is hereby given of the following meeting.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Nursing Research Special Emphasis Panel: NINR Conference Application Review Meeting.

Date: April 15, 2025.

Time: 10:00 a.m. to 12:00 p.m.

Agenda: To review and evaluate grant applications.

Meeting Format: Virtual Meeting.

Address: National Institute of Nursing Research, 6700B Rockledge Drive, Bethesda, MD 20892.

Contact Person: Weiqun Li, MD, Chief, Office of Scientific Review, National Institute of Nursing Research, National Institutes of Health, 6701 Democracy Boulevard, Room 729, Bethesda, MD 20892, (301) 594-5966, email: wli@mail.nih.gov.

(Catalogue of Federal Domestic Assistance Program Nos. 93.361, Nursing Research, National Institutes of Health, HHS)

Dated: March 14, 2025.
Bruce A. George,
Program Analyst, Office of Federal Advisory Committee Policy.

[FR Doc. 2025-04676 Filed 3-19-25; 8:45 am]

BILLING CODE 4140-01-P